FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

LICENSE NUMBER: 003555F.

NAME: Thomas Griffin International, Inc.

ADDRESS: 15903 Kent Ct., Tampa, FL 33647.

DATE REVOKED: September 9, 2010.

REASON: Surrendered license voluntarily.

LICENSE NUMBER: 019206NF.

NAME: Fun N Stuff International USA, Inc. dba Air Ocean Land Transport Logistics Inc.

ADDRESS: 13169 Alta Vista Way, Sylmar, CA 91342.

DATE REVOKED: September 16, 2010.

REASON: Surrendered license voluntarily.

LICENSE NUMBER: 020934N.

NAME: D.L. International Logistics Inc.

ADDRESS: 3500 NW 115th Avenue, Doral, FL 33178.

DATE REVOKED: August 23, 2010.

REASON: Failed to maintain a valid bond.

Sandra L. Kusumoto,
Director, Bureau of Certification and Licensing.

[FR Doc. 2010-24407 Filed 9-28-10; 8:45 am]

BILLING CODE 6730-01-P